DEPARTMENT OF ENERGY

Federal Energy Regulatory Commission

Combined Notice of Filings #1

Take notice that the Commission received the following electric rate filings:

Docket Numbers: ER10-1484-005.

Applicants: Shell Energy North America (US), L.P.

Description: Shell Energy North America (US), L.P. submits Supplement to 10/31/2012 updated market power analysis for the Northeast region.

Filed Date: 12/10/12.

Accession Number: 20121210-5249.

Comments Due: 5 p.m. ET 12/31/12.

Docket Numbers: ER13-181-001.

Applicants: AEP Texas Central Company.

Description: AEP Texas Central Company submits tariff filing per 35.17(b): TCC-South Texas EC IA Amendment to be effective 9/24/2012.

Filed Date: 12/11/12.

Accession Number: 20121211-5155.

Comments Due: 5 p.m. ET 1/2/13.

Docket Numbers: ER13-546-000.

Applicants: Southern California Edison Company.

Description: Southern California Edison Company submits tariff filing per 35.13(a)(2)(iii: Amendment to LGIA for Silver State South Solar Project to be effective 11/16/2012.

Filed Date: 12/12/12.

Accession Number: 20121212-5000.

Comments Due: 5 p.m. ET 1/2/13.

Docket Numbers: ER13-547-000.

Applicants: California Independent System Operator Corporation.

Description: Petition for Distribution of Forfeited Funds Collected in Connection with Processing Generator Interconnection Requests of the California Independent System Operator Corporation.

Filed Date: 12/11/12.

Accession Number: 20121211-5188.

Comments Due: 5 p.m. ET 1/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2012.
Nathaniel J. Davis, Sr.,
Deputy Secretary.

[FR Doc. 2012-30707 Filed 12-20-12; 8:45 am]

BILLING CODE 6717-01-P